POSTAL SERVICE

39 CFR Part 20

Changes in International Special Service Fees

AGENCY: Postal Service.

ACTION: Final rule.

SUMMARY: Pursuant to its authority under 39 U.S.C. 407, the Postal Service is changing fees for international special mail services to become effective simultaneously with changes to domestic rates and fees.

EFFECTIVE DATE: 12:01 A.M., June 30, 2002.

FOR FURTHER INFORMATION CONTACT: John Alepa, 703-292-3589.

SUPPLEMENTARY INFORMATION: The United States Postal Service is a member of the Universal Postal Union (UPU). By virtue of that membership, the Postal Service adheres to the agreements of the UPU to which it is signatory. Specifically, the Universal Postal Convention (Convention) contains provisions concerning the fees member countries can charge for special mail services.

The Convention provides charges for nonstandard letters, return receipts, registered mail service, restricted delivery, recorded delivery, and insured parcel mail service. The charges provided in these agreements are generally less than the Postal Service charges for the equivalent domestic service. The agreements authorize member countries whose internal service charges are higher than those that are fixed in the agreements to apply their domestic charges in the international service. The Postal Service charges international special service fees that are the same as the equivalent domestic special service fees to avoid having international fees that are less than those charged domestically. In addition, there are domestic services such as certificate of mailing, money order inquiry fee, and pickup fee that can be used in conjunction with international mail.

The definition of nonstandard surcharge for letter-post items is changed to be the same as the monmachinable criteria and the new term is adopted for international mail.

Accordingly, the Postal Service is adjusting the following international special service fees concurrently with changes adopted by the Governors of the Postal Service as a result of the current proceedings before the Postal Rate Commission (Docket R2001-1):

A. Certificate of Mailing:

Quantity | Fee
Individual Pieces:
Basic service (PS Form 3817) | $0.90 (per article)
Firm mailing book (PS Form 3877) | 0.30 (per article listed)
Duplicate of PS Form 3817 or 3877 | 0.90 (per page)
Bulk Mailings:
Up to 1,000 identical pieces | $4.50
Each additional 1,000 pieces | 0.50
Duplicate copy | 0.90

B. Insured Mail:

Canada

Limit of Indemnity | Fee
$50 | $1.30
100 | 2.20
200 | 3.20
300 | 4.20
400 | 5.20
500 | 6.20
600 | 7.20
675 | 8.20

(The insured mail fees for all countries other than Canada are unchanged.)

C. Global Express Mail:

Fee in addition to postage, for additional Express Mail merchandise insurance:

Insurance Coverage | Fee
$0.01 to $100.00 | None
100.01 to 5,000.00 | $1.00 for each $100 or fraction thereof over $100
Express Mail merchandise maximum liability: $5,000
Document reconstruction maximum liability: $100

D. Pickup Fee (for Global Express Guaranteed, Global Express Mail, Global Priority Mail, and parcel post): $12.50.

E. Recorded Delivery: $2.30.

F. Registered Mail:

1. Canada

Limit of Indemnity | Fee
$100.00 | $8.00
500.00 | 8.85
1,000.00 | 9.70

2. All Other Countries

Limit of Indemnity | Fee
$40.45 | $7.50

G. Restricted Delivery: $3.50.

H. Return Receipt: $1.75.

I. Nonmachinable Surcharge: $0.12.

J. International Money Order Inquiry Fee: $3.00.

This notice does not address charges for services that do not have a corresponding domestic service. These charges will be addressed in a separate notice in conjunction with anticipated adjustments in international postage rates.

The Postal Service is exempted by 39 U.S.C. 410(a) from the advance notice requirements of the Administration Procedure Act regarding proposed rulemaking (5 U.S.C. 553).

List of Subjects in 39 CFR Part 20

Foreign relations, Incorporation by reference, International postal services.

PART 20—[AMENDED]

1. The authority citation for 39 CFR part 20 continues to read as follows:

Authority: 5 U.S.C. 552(a); 39 U.S.C. 401, 404, 407, 408.

2. The International Mail Manual which is incorporated by reference in §20.1 is amended, effective June 30, 2002, as follows:

International Mail Manual (IMM)

1 International Mail Services

* * * * *

140 International Mail Categories

* * * * *

141 Definitions

* * * * *

141.3 Global Express Mail

The next level of service, in terms of speed and value-added features, is Global Express Mail (EMS). EMS is an expedited mail service that can be used to send documents and merchandise to most of the country locations that are individually listed in this publication. EMS insurance coverage against loss, damage, or rifling, up to a maximum of $100, is provided at no additional charge. Additional merchandise insurance coverage up to $5,000 may be purchased at the sender's option. However, document reconstruction insurance coverage is limited to a maximum of $100 per shipment. Return receipt service is available, at no additional charge, for EMS shipments that are sent to a limited number of countries. See 221.4. Country specific maximum weight limits range from 22 pounds to 70 pounds. See the Individual Country Listings. Although EMS shipments are supposed to receive the most expeditious handling available in the destination country, they are not subject to a postage refund guarantee if a delivery delay occurs.

* * * * *

2 Conditions for Mailing

* * * * *

210 Global Express Guaranteed

* * * * *

213 Service Areas

* * * * *

213.3 Pickup Service

On-call and scheduled pickup services are available for an added charge of $12.50 for each pickup stop, regardless of the number of pieces picked up. Only one pickup fee will be charged if domestic Express Mail, International Express Mail, domestic Priority Mail, International Parcel Post, and/or domestic Parcel Post is picked up at the same time. No pickup fee will be charged when Global Express Guaranteed is picked up during a delivery stop or during a scheduled stop made to collect other mail not subject to a pickup fee. Pickup service is provided in accordance with DMM D010.

* * * * *

216 Postage

* * * * *

216.3 Discounted Rates

* * * * *

216.35 Shipment Preparation and Deposit

* * * * *

216.352 Deposit

The following choices are available for depositing Global Express Guaranteed shipments prepared online:

a. On-call and scheduled pickup services are available for an added charge of $12.50 for each pickup stop, regardless of the number of pieces picked up. Only one pickup fee will be charged if domestic Express Mail, International Express Mail, domestic Priority Mail, International Parcel Post, and/or domestic Parcel Post is picked up at the same time.

No pickup fee will be charged when Global Express Guaranteed is picked up during a delivery stop or during a scheduled stop made to collect other mail not subject to a pickup fee. Pickup service is provided in accordance with DMM D010. A complete listing of participating Global Express Guaranteed Post Offices is available on the Web site at http://www.usps.com/gxg.

* * * * *

220 Global Express Mail

* * * * *

221 Description

* * * * *

221.3 Insurance and Indemnity

* * * * *

221.31 EMS Merchandise Insurance

Global Express Mail merchandise insurance coverage against loss, damage, or rifling is provided up to $100 at no additional charge. Additional insurance coverage above $100 may be purchased at the sender's option. The fee for optional Global Express Mail merchandise insurance coverage is $1.00 for each $100 or fraction thereof, up to a maximum of $5,000 per shipment. See the Individual Country Listings for the applicable Global Express Mail insurance fees.

221.32 Purchase of Additional Insurance

When a mailer wants to insure an EMS merchandise shipment in an amount more than $100, the insurance fee is entered in the block marked “Insurance” on the mailing label. Coverage is limited to the actual value of the contents, regardless of the fee paid, or the highest insurance value increment for which the fee is fully paid, whichever is lower. See DMM S500.

221.33 Document Reconstruction Insurance

Nonnegotiable EMS documents are insured against loss, damage, or rifling at no additional cost to the mailer. Document reconstruction insurance coverage is limited to a maximum of $100 per shipment. Additional coverage beyond the $100 indemnity limit is not available. See DMM S010 and S500.

Note: EMS indemnity payments are subject to the provisions of DMM S010, DMM S500, and IMM 935. Neither indemnity payments nor postage refunds are payable for delayed delivery.

* * * * *

222 Postage

* * * * *

222.2 Payment of Postage

* * * * *

222.24 Pickup Service

On-call and scheduled pickup services are available for an added charge of $12.50 for each pickup stop, regardless of the number of pieces picked up. Only one pickup fee will be charged if domestic Express Mail, domestic Priority Mail, international parcel post, Global Express Guaranteed, and/or domestic Parcel Post is picked up at the same time. No pickup fee will be charged when international Express Mail is picked up during a delivery stop or during a scheduled stop made to collect other mail not subject to a pickup fee. Pickup service is provided in accordance with DMM D010.

* * * * *

230 Global Priority Mail

* * * * *

236 Mail Entry

* * * * *

236.3 Pickup Service

On-call and scheduled pickup services are available for Global Priority Mail acceptance cities. There is a charge of $12.50 for each pickup stop, regardless of the number of pieces picked up. (See DMM D010 for standards of pickup service.) Pickup service is not available for GPM items that bear a permit imprint and that are paid for through an advance deposit account.

* * * * *

240 Letter-post

* * * * *

243 Weight and Size Limits

* * * * *

243.2 Size Limits

* * * * *

243.24 Nonmachinable Surcharge

A $0.12 per-piece surcharge is applied to airmail letter-post items (but not to economy (surface) letter-post items) that weigh 1 ounce or less, if any of the following apply:

a. Has an aspect ratio (length divided by height) of less than 1.3 or more than 2.5.

b. Is polybagged, polywrapped, or enclosed in any plastic material.

c. Has clasps, strings, buttons, or similar closure devices.

d. Contains items such as pens, pencils, or loose keys or coins that cause the thickness of the mailpiece to be uneven.

e. Is too rigid (does not bend easily when subjected to a transport belt tension of 40 pounds around an 11-inch diameter turn).

f. For pieces more than 4¼ inches high or 6 inches long, the thickness is less than 0.009 inch.

g. Has a delivery address parallel to the shorter dimension of the mailpiece.

h. For folded self-mailers, the folded edge is perpendicular to the address, regardless of the use of tabs, wafer seals, or other fasteners.

i. For booklet-type pieces, the bound edge (spine) is the shorter dimension of the piece or is at the top, regardless of the use of tabs, wafer seals, or other fasteners.

* * * * *

280 Parcel Post

* * * * *

282 Postage

* * * * *

282.3 Pickup Service

Scheduled pickup service is available for an added charge of $12.50 for each pickup stop regardless of the number of pieces picked up. Only one pickup fee will be charged if domestic Express Mail, Global Express Mail, domestic Priority Mail, Global Priority Mail, Global Express Guaranteed, and/or domestic Parcel Post is also picked up at the same time. No pickup fee will be charged when international parcel post is picked up during a delivery stop or during a scheduled stop made to collect other mail not subject to a pickup fee. Pickup service is provided in accordance with DMM D010.

* * * * *

3 Special Services

* * * * *

310 Certificate of Mailing

* * * * *

313 Fees

313.1 Individual Pieces

The fee for certificates of mailing for ordinary letter-post and ordinary parcel post is $0.90 per piece, whether the item is listed individually on PS Form 3817, Certificate of Mailing, or on firm mailing bills. Additional copies of PS Form 3817 or firm mailing bills are available for $0.90 per page. PS Form 3877, Firm Mailing Book for Accountable Mail, or forms printed at the mailer's expense may be used for certificates of three or more pieces of mail of any class presented at one time. If mailer-printed forms are used instead of PS Form 3877, these forms must contain, at a minimum, the same information as PS Form 3877. The fee is $0.30 per article.

313.2 Bulk Pieces

Identical pieces of ordinary letter-post mail that are paid for with regular postage stamps, precanceled stamps, or meter stamps are subject to the following certificate of mailing fees:

Up to 1,000 pieces—$4.50

Each additional 1,000 pieces or fraction—0.50

Duplicate copy—0.90

* * * * *

330 Registered Mail

* * * * *

333 Fees and Indemnity Limits

333.1 Registration Fees

The registry fee for all countries is $7.50.

Exception: See the Individual Country Listing for Canada.

* * * * *

340 Return Receipt

* * * * *

343 Fee

The fee for a return receipt is $1.75, and must be paid in addition to postage and other applicable charges. Return receipt service is available at no additional charge for Global Express Mail to certain countries.

Note: Include the weight of the return receipt when determining the postage for mailing the item.

* * * * *

350 Restricted Delivery

* * * * *

353 Fee

Fee is $3.50 and is in addition to postage and other applicable fees.

* * * * *

360 Recorded Delivery

* * * * *

363 Recorded Delivery Fee

The recorded delivery fee is $2.30 and is in addition to postage and other special service fees, if applicable.

* * * * *

370 Supplemental Services

371 International Money Orders

* * * * *

371.7 Inquiries

* * * * *

371.72 Inquiries Regarding Payment

371.721 Money Orders Issued Pursuant to an Authorization To Issue an International Money Order Form Set

To file an inquiry regarding a money order issued in the United States, send PS Form 6684, Inquiry Concerning International Money Order Issued in the United States, to: International Money Order Section, Accounting Service Ctr, U.S. Postal Service, PO Box 82412, St Louis, MO 63182-9421.

Inquiries should not be made before 30 days after the issue date of the money order. The charge for the inquiry is $3.00, which must be accounted for by affixing and canceling postage stamps on PS Form 6684.

* * * * *

5 Nonpostal Export Regulations

* * * * *

550 Dried Whole Eggs

* * * * *

552 Charges

A charge of $0.90 will be made for each certificate of mailing, or for each package if a single certificate covers more than one package. As prescribed in 553.21, postage stamps to cover the charge will be affixed to the certificate and canceled.

* * * * *

560 Tobacco Seeds and Tobacco Plants

* * * * *

562 Charges

A charge of $0.90 will be made for each permit presented by the sender and for each package when a single permit covers more than one package. Postage stamps to cover the charge should be affixed to the permit and canceled by the postmark of the office of mailing.

* * * * *

7 Treatment of Inbound Mail

* * * * *

710 U.S. Customs Information

* * * * *

713 Treatment of Dutiable Mail at Delivery Office

* * * * *

713.4 Payment of Duty

* * * * *

713.43 Registration of Items To Be Returned to the United States

* * * * *

713.432 Certification by Postal Service Personnel

* * * * *

c. The postmaster or designated postal employee must check to see that the description of the item to be exported is the same on both Customs Form 4455 and the customs declaration form. If the description is the same, he or she certifies to the mailing (lading) by completing the “Signature of Customs Officer” space on both copies of Customs Form 4455. A Certificate of Mailing fee of $0.90 must be charged and accounted for by affixing postage stamps to the original and duplicate copies of Customs Form 4455 and canceling each stamp with the post office date stamp.

* * * * *

Individual Country Listings

[The appropriate fees will be amended as they apply to a specific country.]

* * * * *

An appropriate amendment to 39 CFR part 20 will be published.

Stanley F. Mires,
Chief Counsel, Legislative.

[FR Doc. 02-13950 Filed 6-4-02; 8:45 am]

BILLING CODE 7710-12-P